DEPARTMENT OF COMMERCE

International Trade Administration

[A-485-806]

Notice of Extension of Time Limit for the Final Results of Antidumping Duty Administrative Review: Certain Hot-Rolled Carbon Steel Flat Products from Romania

AGENCY: Import Administration, International Trade Administration, Department of Commerce.

EFFECTIVE DATE: February 26, 2007.

FOR FURTHER INFORMATION CONTACT: David Dirstine, AD/CVD Operations Office 5, Import Administration, International Trade Administration, U.S. Department of Commerce, 14th Street and Constitution Avenue, NW, Washington, DC 20230; telephone (202) 482-4033.

SUPPLEMENTARY INFORMATION:

Background

On October 23, 2006, the Department of Commerce (the Department) published its preliminary results of administrative review of the antidumping duty order on certain hot-rolled carbon steel flat products from Romania. See Cetain Hot-Rolled Carbon Steel Flat Products from Romania: Preliminary Results of the Antidumping Duty Administrative Review, 71 FR 62082 (October 23, 2006). The period of review is November 1, 2004, through October 31, 2005. The final results of review are currently due no later than February 20, 2007.

Extension of Time Limit for Final Results

The Tariff Act of 1930, as amended (the Act), provides at section 751(a)(3)(A) that the Department will issue the final results of an administrative review of an antidumping duty order within 120 days after the date on which the preliminary determination is published. Section 751(a)(3)(A) of the Act provides further that, if the Department determines that it is not practicable to complete the review within this time period, the Department may extend the 120-day period to 180 days.

The Department has determined that it is not practicable to complete the preliminary results by the current deadline of February 20, 2007, because it has extended the briefing schedule for interested parties and needs additional time to consider the issues raised in case and rebuttal briefs.

Therefore, in accordance with section 751(a)(3)(A) of the Act and 19 CFR 351.213(h)(2), the Department is extending the time limit for the preliminary results by 45 days to April 6, 2007.

We are issuing this notice in accordance with section 751(a)(3)(A) of the Act.

Dated: February 16, 2007.
Stephen J. Claeys,
Deputy Assistant Secretary for Import Administration.

[FR Doc. E7-3235 Filed 2-23-07; 8:45 am]

BILLING CODE 3510-DS-S